NATIONAL AERONAUTICS AND SPACE ADMINISTRATION

[Notice 04-159]

NASA Robotic and Human Lunar Exploration Strategic Roadmap Committee; Meeting

AGENCY: National Aeronautics and Space Administration (NASA).

ACTION: Notice of meeting.

SUMMARY: In accordance with the Federal Advisory Committee Act, Public Law 92-463, as amended, the National Aeronautics and Space Administration announces a forthcoming meeting of the NASA Robotic and Human Lunar Exploration Strategic Roadmap Committee.

DATES: Monday, January 24, 2005, 8:30 a.m. to 4:30 p.m.; and Tuesday, January 25, 2005, 8:30 a.m. to 4:30 p.m.

ADDRESSES: Space Center Houston, 1601 NASA Road 1, Houston, TX 77058-3145.

FOR FURTHER INFORMATION CONTACT: Mr. Frank Bauer, Advanced Planning and Integration Office, National Aeronautics and Space Administration, Washington, DC 20546, (301) 286-3102.

SUPPLEMENTARY INFORMATION: The meeting will be open to the public up to the capacity of the room. Visitors to the meeting will be requested to sign a visitor's register.

The agenda for the meeting includes the following topics: Goals and Objectives of the Committee, Background Briefings, Special Topics on Lunar Exploration, Roadmap Concepts, Roundtable Discussions.

It is imperative that the meeting be held on this date to accommodate the scheduling priorities of the key participants.

Dated: December 23, 2004.
P. Diane Rausch,
Advisory Committee Management Officer, National Aeronautics and Space Administration.

[FR Doc. 04-28624 Filed 12-29-04; 8:45 am]

BILLING CODE 7510-13-P